DEPARTMENT OF TRANSPORTATION

Federal Aviation Administration

RIN 2120-AA64

Draft Environmental Assessment for Rerouting Regional Jet and Turboprop Aircraft

AGENCY: Federal Aviation Administration, DOT.

ACTION: Notice of Availability of a Draft Environmental Assessment.

SUMMARY: The Federal Aviation Administration (FAA) is making available for comment a Draft Environmental Assessment (EA) regarding the proposed rerouting of regional jet and turboprop aircraft within airspace controlled by the new Boston Consolidated TRACON. The FAA is preparing the EA to comply with Environmental Quality Regulations, 40 CFR parts 1500-1508, and FAA Order 1050.1E, Policies and Procedures for Considering Environmental Impacts.

DATES: Comments must be received on or before July 29, 2004.

ADDRESSES: Send all comments on to Ms. Terry Flieger, Environmental Specialist, Federal Aviation Administration, Air Traffic Organization, 12 New England Executive Park, Burlington MA 01803.

FOR FURTHER INFORMATION CONTACT: Ms. Terry Flieger, Environmental Specialist, Air Traffic Organization, at the above address, telephone: 781-238-7524, fax: 781-238-7585, or Mr. Christopher DePaolo, Air Traffic Control Specialist, Air Traffic Organization, at the above address, telephone: 781-238-7533, fax: 781-238-7585.

SUPPLEMENTARY INFORMATION: The FAA is making available the Draft Environmental Assessment (EA) for the proposed rerouting of regional jet (RJ) and turboprop (TP) aircraft approaching Boston-Logan (BOS) from the east. The proposal will route these aircraft along an existing TP route approaching BOS from the north. A Draft Environmental Assessment has been prepared and is now available for public review and comment. An electronic version of the document can be found on the following Internet address: www.faa.gov/programs/en/ane/noise under the heading Public Notices. The FAA will carefully review all comments received by the date published in the DATES section of this notice.

Issued in Burlington, Massachusetts, on June 16, 2004.
William C. Yuknewicz,
Acting Manager, Air Traffic Organization, FAA, New England Region.

[FR Doc. 04-14635 Filed 6-25-04; 8:45 am]

BILLING CODE 4910-13-M